DEPARTMENT OF ENERGY

Federal Energy Regulatory Commission

Combined Notice of Filings #1

Take notice that the Commission received the following electric rate filings:

Docket Numbers: ER10-1290-012.

Applicants: San Diego Gas & Electric Company.

Description: Notice of Non-Material Change in Status of San Diego Gas & Electric Company.

Filed Date: 5/17/24.

Accession Number: 20240517-5188.

Comment Date: 5 p.m. ET 6/7/24.

Docket Numbers: ER22-773-001; ER22-2558-001.

Applicants: Great Pathfinder Wind, LLC, Mulligan Solar, LLC.

Description: Notice of Non-Material Change in Status of Mulligan Solar, LLC et al.

Filed Date: 5/17/24.

Accession Number: 20240517-5161.

Comment Date: 5 p.m. ET 6/7/24.

Docket Numbers: ER23-729-004.

Applicants: PJM Interconnection, L.L.C.

Description: Compliance filing: Compliance Filing re LDA Reliability Requirement in ER23-729 to be effective 5/6/2024.

Filed Date: 5/20/24.

Accession Number: 20240520-5123.

Comment Date: 5 p.m. ET 6/10/24.

Docket Numbers: ER24-722-003.

Applicants: Oklahoma Gas and Electric Company.

Description: Compliance filing: Compliance to 50 to be effective 1/1/2024.

Filed Date: 5/20/24.

Accession Number: 20240520-5091.

Comment Date: 5 p.m. ET 6/10/24.

Docket Numbers: ER24-1366-001.

Applicants: Tumbleweed Energy, LLC.

Description: Compliance filing: Response to Request for Additional Information to be effective 3/1/2024.

Filed Date: 5/17/24.

Accession Number: 20240517-5171.

Comment Date: 5 p.m. ET 6/7/24.

Docket Numbers: ER24-1449-001.

Applicants: Goose Prairie Solar LLC.

Description: Tariff Amendment: Resp to Deficiency Ltr & Requests for Confidential Treatment & Expedited Action to be effective 5/11/2024.

Filed Date: 5/20/24.

Accession Number: 20240520-5134.

Comment Date: 5 p.m. ET 6/10/24.

Docket Numbers: ER24-1588-000.

Applicants: Double Black Diamond Solar Power, LLC.

Description: Second Supplement to March 21, 2024, Double Black Diamond Solar Power, LLC tariff filing.

Filed Date: 5/15/24.

Accession Number: 20240515-5226.

Comment Date: 5 p.m. ET 5/30/24.

Docket Numbers: ER24-1597-000.

Applicants: Harvest Gold Solar Power, LLC.

Description: Supplement to March 22, 2024, Harvest Gold Solar Power, LLC tariff filing.

Filed Date: 5/16/24.

Accession Number: 20240516-5198.

Comment Date: 5 p.m. ET 5/30/24.

Docket Numbers: ER24-2059-000.

Applicants: Ameren Illinois Company.

Description: 205(d) Rate Filing: Filing of Reimbursement Agreement to be effective 7/19/2024.

Filed Date: 5/20/24.

Accession Number: 20240520-5047.

Comment Date: 5 p.m. ET 6/10/24.

Docket Numbers: ER24-2060-000.

Applicants: PJM Interconnection, L.L.C.

Description: 205(d) Rate Filing: Amendment to ISA, SA No. 6269; Queue No. AE2-059 (amend) to be effective 7/20/2024.

Filed Date: 5/20/24.

Accession Number: 20240520-5051.

Comment Date: 5 p.m. ET 6/10/24.

Docket Numbers: ER24-2061-000.

Applicants: Upper Missouri G. & T. Electric Cooperative, Inc.

Description: 205(d) Rate Filing: UMPC Exhibit A Revisions WPCs to be effective 6/1/2024.

Filed Date: 5/20/24.

Accession Number: 20240520-5102.

Comment Date: 5 p.m. ET 6/10/24.

Docket Numbers: ER24-2062-000.

Applicants: Duke Energy Florida, LLC.

Description: 205(d) Rate Filing: DEF-Chattahoochee Amended and Restated NITSA SA No. 154 to be effective 4/21/2024.

Filed Date: 5/20/24.

Accession Number: 20240520-5116.

Comment Date: 5 p.m. ET 6/10/24.

Docket Numbers: ER24-2063-000.

Applicants: Lincoln Power, L.L.C.

Description: Tariff Amendment: Notice of Cancellation of Market-Based Rate Tariff to be effective 5/21/2024.

Filed Date: 5/20/24.

Accession Number: 20240520-5160.

Comment Date: 5 p.m. ET 6/10/24.

Docket Numbers: ER24-2064-000.

Applicants: PJM Interconnection, L.L.C.

Description: 205(d) Rate Filing: Notice of Cancellation of WMPA SA No. 7006, Queue AF2-221 to be effective 7/20/2024.

Filed Date: 5/20/24.

Accession Number: 20240520-5187.

Comment Date: 5 p.m. ET 6/10/24.

Docket Numbers: ER24-2065-000.

Applicants: Duke Energy Florida, LLC.

Description: 205(d) Rate Filing: DEF-SECI SA No. 143 Amended and Restated NITSA to be effective 4/21/2024.

Filed Date: 5/20/24.

Accession Number: 20240520-5188.

Comment Date: 5 p.m. ET 6/10/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: May 20, 2024.
Debbie-Anne A. Reese,
Acting Secretary.

[FR Doc. 2024-11507 Filed 5-23-24; 8:45 am]

BILLING CODE 6717-01-P